DEPARTMENT OF ENERGY

National Energy Technology Laboratory; Notice of Availability of a Funding Opportunity Announcement

AGENCY: National Energy Technology Laboratory, Department of Energy (DOE).

ACTION: Notice of availability of a funding opportunity announcement.

SUMMARY: Notice is hereby given of the intent to issue Funding Opportunity Announcement No. DE-PS26-04NT42074 entitled “Solid State Energy Conversion Alliance (SECA) Core Technology Program.” The National Energy Technology Laboratory (NETL) is seeking applications under this announcement to develop, through the Core Technology Program, science and technologies that address specific technical challenges and barriers faced by the SECA Industrial Teams. The DOE goal for SECA Industrial Teams is to develop a 3 kilowatt (kW)-10kW solid-oxide fuel cell system that has a Factory Cost of $400/kW by 2010. Development of solid-oxide fuel cell power systems that are applicable to stationary, mobile and military applications with minimal differences in core module components is desired. A goal of DOE is to encourage the entry of one or more fuel cell systems developed in the SECA Program into one or more commercial markets at the earliest possible date. Core Technology Program research and development is an integral part of the effort to achieve the aforementioned goals.

DATES: The funding opportunity announcement will be available on the “Industry Interactive Procurement System” (IIPS) Web page located at http://e-center.doe.gov on or about January 9, 2004. Applicants can obtain access to the funding opportunity announcement from the address above or through DOE/NETL's Web site at http://www.netl.doe.gov/business.

ADDRESSES: Questions and comments regarding the content of the announcement should be submitted through the “Submit Question” feature of IIPS at http://e-center.doe.gov. Locate the announcement on IIPS and then click on the “Submit Question” button. You will receive an electronic notification that your question has been answered. Responses to questions may be viewed through the “View Questions” feature. If no questions have been answered, a statement to that effect will appear. You should periodically check “View Questions” for new questions and answers.

FOR FURTHER INFORMATION CONTACT: Bonnie Dowdell, Contract Specialist, MS 921-107, U.S. Department of Energy, National Energy Technology Laboratory, P.O. Box 10940, 626 Cochrans Mill Road, E-mail Address: Bonnie.Dowdell@netl.doe.gov, Telephone Number: 412-386-5879.

SUPPLEMENTARY INFORMATION: SECA supports the objectives of the Comprehensive National Energy Strategy; in addition, it addresses Presidential Initiatives including Hydrogen Fuel, FutureGen, Climate Change and Clear Skies. Specific benefits of solid-oxide fuel cell technology include:

(1) High efficiency. Even without cogeneration a solid-oxide fuel cell system can be twice as efficient as competing technologies due to the direct conversion of fuel to electrical power. With thermal recovery, system efficiency could reach 85%.

(2) Fuel cell systems promise to be one of the most reliable power generation technologies. Hospitals, hotels, and telephone companies are now using them as part of critical uninterruptible power supply systems. SECA will result in distributed generation products that will further increase grid reliability and safety.

(3) Solid-oxide fuel cell systems are clean. They generate no solid wastes, and due to the higher efficiency and the replacement of fossil fuel combustion with a lower temperature electrochemical conversion, fuel cells significantly lower emissions of nitrogen compounds and greenhouse gases.

(4) Fuel cells expand energy choices. They can be used in virtually any application for the production of useful energy from fossil fuels in a very efficient manner. As environmental requirements become more stringent, fuel cells are an important option in producing useful energy in an environmentally friendly way.

(5) Fuel cells manufactured as small scalable modules and produced cheaply by taking advantage of economies of production, are well suited for developing countries without an existing energy infrastructure, and will help meet a growing worldwide demand for energy. Solid-oxide fuel cell power systems developed in the SECA Program will not require large one-time investments of capital that characterize large central generation plants. The modules produced will be scalable allowing application of capital in smaller incremental amounts. This is a tenable economic scenario for developing countries.

The main objective of the Core Technology Program is to develop science and technologies that will be adopted by the SECA Industrial Teams to increase their success in developing commercially-viable solid-oxide fuel cell power systems. The SECA Core Technology Program provides a direct link for Core Technology participants to market new technology developments to an established customer base via the SECA Industrial Teams. It is expected that this program structure should significantly shorten the time period between Core Technology development and commercialization of same technologies. The following website provides additional information on the SECA Program including the program structure and information on the Core Technology component: www.seca.doe.gov.

This SECA Core Technology announcement focuses on specific sub-areas of interest under two Core Technology areas of interest: (1) Materials; and (2) Fuel Processing. Applications can only be submitted to one of the sub-areas of interest that follow:

Area of Interest 1, Materials, is comprised of four separate sub-areas of interest to which an application may be submitted.

(1) Materials—Sulfur-Tolerant Anodes

(2) Materials—Interconnects

(3) Materials—Cathode/Interconnect Contact

(4) Materials—Innovative Sealing Concepts

Area of Interest 2, Fuel Processing, is comprised of three separate sub-areas of interest to which an application may be submitted.

(1) Fuel Processing—Diesel Fuel Reformation Catalysts

(2) Fuel Processing—Integrated Diesel Fuel Injection and Mixing

(3) Fuel Processing—Carbon and Sulfur Deposition/Reaction Mechanisms for Diesel Reforming Catalysts

DOE anticipates awarding approximately thirteen (13) cooperative agreements under this Program Announcement. This particular program is covered by Section 3001 and 3002 of the Energy Policy Act (EPAct), 42 U.S.C. 13542 for financial assistance awards and requires a cost share commitment of at least 20 percent from non-federal sources for research and development projects. Approximately $7,000,000 in total funding is expected to be available under this announcement.

Once released, the funding opportunity announcement will be available for downloading from the IIPS Internet page. At this Internet site you will also be able to register with IIPS, enabling you to submit an application. If you need technical assistance in registering or for any other IIPS function, call the IIPS Help Desk at (800) 683-0751 or E-mail the Help Desk personnel at IIPS_HelpDesk@e-center.doe.gov. The funding opportunity announcement will only be made available in IIPS, no hard (paper) copies of the funding opportunity announcement and related documents will be made available. Telephone requests, written requests, E-mail requests, or facsimile requests for a copy of the funding opportunity announcement will not be accepted and/or honored. Applications must be prepared and submitted in accordance with the instructions and forms contained in the announcement. The actual funding opportunity announcement document will allow for requests for explanation and/or interpretation.

Issued in Pittsburgh, PA on January 6, 2004.
Dale A. Siciliano,
Director, Acquisition and Assistance Division.

[FR Doc. 04-782 Filed 1-13-04; 8:45 am]

BILLING CODE 6450-01-P